ENVIRONMENTAL PROTECTION AGENCY

[ER-FRL-9055-2]

Environmental Impact Statements; Notice of Availability

Responsible Agency: Office of Federal Activities, General Information 202-564-5632 or https://www.epa.gov/nepa.

Weekly receipt of Environmental Impact Statements (EIS)

Filed January 25, 2021 10 a.m. EST Through February 1, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210013, Final, USAF, NM, Special Use Airspace Optimization to Support Existing Aircraft at Holloman Air Force Base, New Mexico, Review Period Ends: 03/08/2021, Contact: Robin Divine 210-925-2730.

EIS No. 20210014, Final, USAF, VA, Fifth Generation Formal Training Unit Optimization, Review Period Ends: 03/08/2021, Contact: Nolan Swick 210-925-3392.

EIS No. 20210015, Final, USFS, OR, Government Camp—Cooper Spur Land Exchange, Review Period Ends: 04/06/2021, Contact: Michelle Lombardo 971-303-2083.

EIS No. 20210016, Draft, FHWA, OR, Earthquake Ready Burnside Bridge, Comment Period Ends: 03/22/2021, Contact: Emily Cline 503-316-2547.

Amended Notice

EIS No. 20200210, Draft, STB, UT, Uinta Basin Railway, Comment Period Ends: 02/12/2021, Contact: Joshua Wayland 202-245-0330.

Revision to FR Notice Published 12/18/2020; Extending the Comment Period from 01/28/2020 to 02/12/2021.

Dated: February 1, 2021.
Cindy S. Barger,
Director, NEPA Compliance Division, Office of Federal Activities.

[FR Doc. 2021-02412 Filed 2-4-21; 8:45 am]

BILLING CODE 6560-50-P